DEPARTMENT OF ENERGY

Federal Energy Regulatory Commission

[Project No. 12498-003]

Ocean Renewable Power Company, LLC; Notice of Preliminary Permit Application Accepted for Filing and Soliciting Comments, Motions To Intervene, and Competing Applications

September 3, 2008.

On March 13, 2008, Ocean Renewable Power Company, LLC filed an application, pursuant to section 4(f) of the Federal Power Act, proposing to study the feasibility of the Ft. Lauderdale OCGen Power Project, located on the Gulf Stream in the Atlantic Ocean, near Broward County, Florida. No federal land or facilities would be used. The project uses no dam or impoundment.

The proposed project would consist of: (1) 500 proposed OCGen module units, with a total installed capacity of 150-megawatts, (2) a proposed 12-mile-long, 33-kilovolt transmission line, and (3) appurtenant facilities. The project is estimated to have an annual generation of 500-gigawatt-hours, which would be sold to a local utility.

Applicant Contact: Mr. Paul Wells, Chairman & Founder, Ocean Renewable Power Company, LLC, 2430 NE 199th Street, N. Miami Beach, FL 33180, phone (305) 936-1515.

FERC Contact: Patricia W. Gillis, (202) 502-8735.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of the Commission's Web site at http://www.ferc.gov/docs-filing/elibrary.asp. Enter the docket number (P-12498-003) in the docket number field to access the document. For assistance, call toll-free 1-866-208-3372.

Kimberly D. Bose,
Secretary.

[FR Doc. E8-20860 Filed 9-8-08; 8:45 am]

BILLING CODE 6717-01-P